DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by February 23, 2004.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax (703) 358-2281.

FOR FURTHER INFORMATION CONTACT: Division of Management Authority, telephone (703) 358-2104.

SUPPLEMENTARY INFORMATION:

Endangered Species

The public is invited to comment on the following applications for a permit to conduct certain activities with endangered species. This notice is provided pursuant to section 10(c) of the Endangered Species Act of 1973, as amended (16 U.S.C. 1531, et seq.). Written data, comments, or requests for copies of these complete applications should be submitted to the Director (address above).

PRT-080333

Applicant: Shriver Center, University of Massachusetts, Waltham, MA 02452.

The applicant requests a permit to import milk samples from captive born quokka (Setonix brachyurus) from the University of Western Australia for the purpose of scientific research. This notification covers activities to be conducted by the applicant over a five-year period.

Endangered Marine Mammals and Marine Mammals

The public is invited to comment on the following applications for a permit to conduct certain activities with endangered marine mammals and/or marine mammals. The applications were submitted to satisfy requirements of the Endangered Species Act of 1973, as amended (16 U.S.C. 1531, et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

PRT-081115

Applicant: Seward Association for the Advancement of Marine Science, dba. Alaska SeaLife Center, Seward, AK, PRT-081115.

The applicant requests a permit to import biological and tissue samples from Northern sea otters (Enhydra lutris lutris) and walrus (Odobenus rosmarus) for the purpose of scientific research. This notification covers activities to be conducted by the applicant over a five-year period.

Concurrent with the publication of this notice in the Federal Register, the Division of Management Authority is forwarding copies of the above applications to the Marine Mammal Commission and the Committee of Scientific Advisors for their review.

081749

Applicant: Paul Thompson, Charlotte, NC.

The applicant requests a permit to import a polar bear (Ursus maritimus) sport hunted from the Foxe Basin polar bear population in Canada prior to February 18, 1997, for personal use.

PRT-080754

Applicant: James E. Martin, Gastonia, NC.

The applicant requests a permit to import a polar bear (Ursus maritimus) sport hunted from the Foxe Basin polar bear population in Canada prior to February 18, 1997, for personal use.

PRT-081757

Applicant: James H. Goodwin Jr., Cleveland, NC.

The applicant requests a permit to import a polar bear (Ursus maritimus) sport hunted from the Foxe Basin polar bear population in Canada prior to February 18, 1997, for personal use.

Dated: January 9, 2004.
Monica Farris,
Senior Permit Biologist, Branch of Permits, Division of Management Authority.

[FR Doc. 04-1474 Filed 1-22-04; 8:45 am]

BILLING CODE 4310-55-P